DEPARTMENT OF LABOR

Employment and Training Administration

[TA-W-73,074]

Johnson Controls D/B/A Hoover Universal, Inc. Including On-Site Leased Workers from Kelly Services Sycamore, Illinois; Amended Certification Regarding Eligibility To Apply for Worker Adjustment Assistance

In accordance with Section 223 of the Trade Act of 1974, as amended (“Act”), 19 U.S.C. 2273, the Department of Labor issued a Certification of Eligibility to Apply for Worker Adjustment Assistance on June 1, 2010, applicable to workers of Johnson Controls, including on-site leased workers from Kelly Services, Sycamore, Illinois. The notice was published in the Federal Register on June 16, 2010 (75 FR 34177).

At the request of the State agency, the Department reviewed the certification for workers of the subject firm. The workers produce seating for automobiles.

The company reports that in the state of Illinois, Johnson Controls and Hoover Universal, Inc. are one and the same companies. Some workers separated from employment at the subject firm had their wages reported under a separate unemployment insurance (UI) tax account under the name Hoover Universal, Inc.

Accordingly, the Department is amending this certification to properly reflect this matter.

The intent of the Department's certification is to include all workers of the subject firm who were adversely affected as a secondary component supplier of automotive seating for an active TAA certified firm.

The amended notice applicable to TA-W-73,074 is hereby issued as follows:

”All workers of Johnston Controls, d/b/a Hoover Universal, Inc., including on-site leased workers from Kelly services, Sycamore, Illinois, who became totally or partially separated from who became totally or partially separated from employment on or after December 9, 2008, through June 1, 2012, and all workers in the group threatened with total or partial separation from employment on the date of certification through two years from the date of certification, are eligible to apply for adjustment assistance under Chapter 2 of Title II of the Trade Act of 1974, as amended.”

Signed at Washington, DC, this 8th day of February 2012.
Michael W. Jaffe.
Certifying Officer, Office of Trade Adjustment Assistance.

[FR Doc. 2012-3922 Filed 2-17-12; 8:45 am]

BILLING CODE 4510-FN-P